FEDERAL MEDIATION AND CONCILIATION SERVICE

Labor Management Cooperation Program; Correction on Application Submission Deadline

AGENCY: Federal Mediation and Conciliation Service.

ACTION: Notice; correction.

SUMMARY: The Federal Mediation and Conciliation Service (FMCS) published a document in the Federal Register on April 13, 2005, concerning the Application Solicitation for the Labor Management Cooperation Program. The document contained an inadvertent omission of the date upon which applications would be accepted and also changes the term “Director, Labor-Management Grants Program” to the “Director or their designee”.

FOR FURTHER INFORMATION CONTACT: Maria A Fried, Federal Register Liaison at 202-606-8090.

Correction

In the Federal Register of April 13, 2005, page 19472, correct the summary section to read:

summary: The Federal Mediation and Conciliation Service (FMCS) is publishing the final Fiscal Year 2005 Program Guidelines/Application Solicitation for the Labor-Management Cooperation Program to inform the public. The program is supported by Federal funds authorized by the Labor-Management Cooperation Act of 1978, subject to annual appropriations. This solicitation contains a change in the application process in an effort to maximize participation under current budget constraints. In the past, applicants were required to submit applications by a fixed date. In Fiscal Year 2005, the date for application submission will be open, contingent upon fund availability. Applications will be accepted for consideration after May 15, 2005 and continued to do so until July 31, 2006, or until all FY 2005 grant funds are obligated, with awards being made by September 30, 2006.

Correction

In the Federal Register of April 13, 2005, page 19472, correct Section G. Application Submission and Review Process to read:

G. Application Submission and Review Process

The Application for Federal Assistance (SF-24) form must be signed by both a labor and management representative. In lieu of signing the SF-424 form, representatives may type their name, title, and organization on plain bond paper with a signature line signed and dated, in accordance with block 18 of the SF-424 form. The individual listed as a contact person in block 6 on the application form will generally be the person with whom FMCS will communicate during the application review process. Please be sure that person is available once the application has been submitted. Additionally, it is the applicant's responsibility to notify FMCS in writing of any changes (e.g. if the address or contact person has changed).

We will accept applications beginning May 15, 2005, and continue to do so until July 31, 2006 or until all FY 2005 funds are obligated, with awards being made by September 30, 2006. While proposals may be accepted at anytime between May 15, 2005 and July 31, 2006, proposals received late in the cycle have a greater risk of not being funded due to unavailability of funds. Once your application has been received and acknowledged by FMCS, no applications or supplementary materials will be accepted thereafter. Applicants are highly advised to contact the grants office prior to committing any resources to the preparation of a proposal.

An original application containing numbered pages, plus three copies should be addressed to the Federal Mediation and Conciliation Service, Labor-Management Grants Program, 2100 K Street, NW., Washington, DC 20427. FMCS will not consider videotaped submissions or video attachments to submissions. FMCS will confirm receipt of all applications within 10 days thereof.

All eligible applications will be reviewed and scored preliminarily by one or more Grant Review Boards. The Board(s) will recommend selected applications for rejection or further funding consideration. The Director or their designee, will finalize the scoring and selection process. All FY 2005 grant applications will be notified of results and all grants awards will be made by September 30, 2006. Applications that fail to adhere to eligibility or other major requirements will be administratively rejected.

Dated: May 23, 2005.
Maria A. Fried,
Federal Register Liaison.

[FR Doc. 05-10622 Filed 5-26-05; 8:45 am]

BILLING CODE 6732-01-M